DEPARTMENT OF THE TREASURY

Submission for OMB Review; Comment Request

March 9, 2004.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW Washington, DC 20220.

DATES: Written comments should be received on or before April 15, 2004, to be assured of consideration.

Internal Revenue Service (IRS)

OMB Number: 1545-1869.

Form Number: IRS Form 8806.

Type of Review: Extension.

Title: Information Return for Acquisition of Control or Substantial Change in Capital Structure.

Description: Form 8806 is used to report information regarding transactions involving acquisition of control or substantial change in capital structure under section 6043.

Respondents: Business or other for-profit.

Estimated Number of Respondents/Recordkeepers: 10.

Estimated Burden Hours Respondent/Recordkeeper:

Recordkeeping—6 hr., 42 min.

Learning about the law or the form—2 hr., 10 min.

Preparing and sending the form to the IRS

Frequency of Response: On occasion.

Estimated Total Reporting/Recordkeeping Burden: 113 hours.

Clearance Officer: Glenn P. Kirkland, Internal Revenue Service, Room 6411-03, 1111 Constitution Avenue, NW., Washington, DC 20224, (202) 622-3428.

OMB Reviewer: Joseph F. Lackey, Jr., Office of Management and Budget, Room 10235, New Executive Office Building, Washington, DC 20503, (202) 395-7316.

Lois K. Holland,
Treasury PRA Clearance Officer.

[FR Doc. 04-5851 Filed 3-15-04; 8:45 am]

BILLING CODE 4830-01-P